NATIONAL SCIENCE FOUNDATION

Advisory Committee for Computer and Information Science and Engineering; Committee of Visitors; Notice of Meeting

In accordance with the Federal Advisory Committee Act (Pub. L. 92-463, as amended), the National Science Foundation announces the following meeting:

Name: Advisory Committee for Computer and Information Science and Engineering (1115).

Date and Time: July 6-7, 2000—8:30-5:00 p.m. each day.

Place: Room 1150, NSF, and 4201 Wilson Boulevard, Arlington, VA.

Type of Meeting: Part-Open—(see Agenda, below).

Contact Person: Dr. Michael Evangelist, Division Director, Computer-Communication Research, National Science Foundation, 4201 Wilson Boulevard, Arlington, VA 22230. Telephone: (703) 306-1910.

Minutes: Meeting minutes may be obtained by contacting the person listed above.

Purpose of Meeting: To carry out Committee of Visitors (COV) review, including program evaluation, GPRA assessments, and access to privileged materials.

Agenda

Closed: July 6—To review the merit review processes covering funding decisions made during the immediately preceding three fiscal year of the Computer-Communications Research Division.

Open: July 7—To assess the results of NSF program investments in the Computer-Communications Division. This shall involve a discussion and review of results focused on NSF and grantee outputs and related outcomes achieved or realized during the preceding three fiscal years. These results may be based on NSF grants or other investments made in earlier years.

Reason for Closing: During the closed session, the Committee will be reviewing proposal actions that will include privileged intellectual property and personal information that could harm individuals if they are disclosed. If discussions were open to the public, these matters that are exempt under 5 U.S.C. 552b(c), (4) and (6) of the Government in the Sunshine Act would be improperly disclosed.

Dated: June 19, 2000.
Karen York,
Committee Management Officer.

[FR Doc. 00-15823 Filed 6-21-00; 8:45 am]

BILLING CODE 7555-01-M